DEPARTMENT OF THE INTERIOR

National Park Service

[NPS-WASO-NAGPRA-NPS0031387; PPWOCRADN0-PCU00RP14.R50000]

Notice of Inventory Completion: U.S. Department of Interior, Fish and Wildlife Service, Alaska Region, Anchorage, AK

AGENCY: National Park Service, Interior.

ACTION: Notice.

SUMMARY: The U.S. Department of Interior, Fish and Wildlife Service, Alaska Region, Anchorage, AK (Alaska Region USFWS), has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Alaska Region USFWS. If no additional requestors come forward, transfer of control of the human remains to the lineal descendants, Indian Tribes or Native Hawaiian organizations stated in this notice may proceed.

DATES: Lineal descendants or representatives of any Indian Tribes or Native Hawaiian organizations not identified in this notice that wish to request transfer of control of these human remains should submit a written request with information in support of the request to the Alaska Region USFWS at the address in this notice by March 1, 2021.

ADDRESSES: Jeremy M. Karchut, Regional Historic Preservation Officer, U.S. Fish and Wildlife Service, Alaska Region, 1011 East Tudor Road, MS-235, Anchorage, AK 99503, telephone (907) 786-3399, email Jeremy_Karchut@fws.gov.

SUPPLEMENTARY INFORMATION: Notice is here given in accordance with the Native American Graves Protection and Repatriation Act (NAGPRA), 25 U.S.C. 3003, of the completion of an inventory of human remains under the control of the U.S. Department of Interior, Fish and Wildlife Service, Alaska Region, Anchorage, AK. The human remains and associated funerary objects were removed from Chernabura Island, Aleutians East Borough, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Vassar College, Department of Anthropology staff and the Alaska Region USFWS professional staff in consultation with the Agdaagux Tribe of King Cove; Native Village of Belkofski; Native Village of Unga; Pauloff Harbor Village; Pribilof Islands Aleut Communities of St. Paul & St. George Islands; Qagan Tayagungin Tribe of Sand Point (previously listed as Qagan Tayagungin Tribe of Sand Point Village) Qawalangin Tribe of Unalaska; and the Aleut Corporation, a non-federally acknowledged Indian group (hereafter referred to as “The Consulted Entities”).

History and Description of the Remains

Between 1986 and 1994, human remains representing, at minimum, 11 individuals were removed from site XSI-007 (as recorded in the Alaska Heritage Resource Survey database) on Chernabura Island, Aleutians East Borough, AK, by Dr. Lucy Johnson, a faculty member in the Department of Anthropology at Vassar College. Dr. Johnson was investigating an archeological site she named “Periwinkle Mound,” located on Chernabura Island. As the land in question is part of the Alaska Maritime National Wildlife Refuge, this investigation was conducted under several Archaeological Resources Protection Act (ARPA) permits issued by the US Fish & Wildlife Service. Dr. Johnson observed numerous human remains eroding from the site and collected the remains from the surface. During her investigations, Dr. Johnson collected more than 200 human bones and teeth. Dr. Johnson recovered most of the human remains in 1986 and 1988, near the shore. They have been in the physical custody of Vassar College since Dr. Johnson completed her fieldwork at the site in 1994.

A preliminary inventory was completed by Dr. Johnson in 2013. Bioarcheologist Dr. Jess Beck conducted a detailed analysis of the human remains for Vassar College in 2020 and identified the minimum number of individuals. The individuals include eight adults and three subadults of unknown sex. No individuals have been identified. Although Unangan Aleut burials are often associated with a small number of utilitarian objects such as wedges and knives, as the human remains came from eroded contexts, no associated funerary objects have been identified.

Radiocarbon dates from charcoal samples found at XSI-007 indicate that the site was occupied shortly before 2000 years ago. The Chernabura Island human remains are more likely than not Native American, and they are most closely affiliated with the modern Aleut people.

Determinations Made by the U.S. Department of Interior, Fish and Wildlife Service, Alaska Region

Officials of the U.S. Department of Interior, Fish and Wildlife Service, Alaska Region have determined that:

• Pursuant to 25 U.S.C. 3001(9), the human remains described in this notice represent the physical remains of 11 individuals of Native American ancestry.

• Pursuant to 25 U.S.C. 3001(2), there is a relationship of shared group identity that can be reasonably traced between the Native American human remains and the Agdaagux Tribe of King Cove; Native Village of Belkofski; Native Village of Unga; Pauloff Harbor Village; and the Qagan Tayagungin Tribe of Sand Point (previously listed as Qagan Tayagungin Tribe of Sand Point Village) Qawalangin Tribe of Unalaska (hereafter referred to as “The Indian Tribes”).

Additional Requestors and Disposition

Lineal descendants or representatives of any Indian Tribe or Native Hawaiian organization not identified in this notice that wish to request transfer of control of these human remains should submit a written request with information in support of the request to Jeremy M. Karchut, Regional Historic Preservation Officer, U.S. Fish and Wildlife Service, Alaska Region, 1011 East Tudor Road, MS-235, Anchorage, AK 99503, telephone (907) 786-3399, email Jeremy_Karchut@fws.gov, by March 1, 2021. After that date, if no additional requestors have come forward, transfer of control of the human remains and associated funerary objects to The Indian Tribes may proceed.

The U.S. Department of Interior, Fish and Wildlife Service, Alaska Region is responsible for notifying The Consulted Entities and The Indian Tribes that this notice has been published.

Dated: January 14, 2021.
Melanie O'Brien,
Manager, National NAGPRA Program.

[FR Doc. 2021-01902 Filed 1-27-21; 8:45 am]

BILLING CODE 4312-52-P